DEPARTMENT OF ENERGY

Federal Energy Regulatory Commission

Fact-Finding Investigation of Potential ManipulationDocket No. PA02-2-000 of Electric and Natural Gas Prices; Notice of Clarification of March 5, 2002 Information Request

March 11, 2002.

On March 5, 2002 (67 FR 11111, March 12, 2002), the Associate Director, Office of Markets, Tariffs and Rates, issued an information request in this proceeding directed to all jurisdictional sellers and all non-jurisdictional sellers in the West. In response to telephone inquiries received by Staff, the Associate Director clarifies that the March 5, 2002, information request does not apply to sales by qualifying facilities. The Associate Director reserves the right to issue information requests to qualifying facilities in the future in this proceeding.

Magalie R. Salas,
Secretary.

[FR Doc. 02-6244 Filed 3-14-02; 8:45 am]

BILLING CODE 6717-01-P